DEPARTMENT OF COMMERCE

International Trade Administration

[A-533-867]

Welded Stainless Pressure Pipe From India: Final Results of Antidumping Duty Administrative Review; 2016-2017

AGENCY: Enforcement and Compliance, International Trade Administration, Department of Commerce.

SUMMARY: The Department of Commerce (Commerce) determines that producers/exporters subject to this review made sales of subject merchandise at less than normal value during the May 10, 2016, through October 31, 2017, period of review (POR).

DATES: Effective May 8, 2019.

FOR FURTHER INFORMATION CONTACT: Laurel LaCivita or Stephanie Berger, AD/CVD Operations, Office III, Enforcement and Compliance, International Trade Administration, U.S. Department of Commerce, 1401 Constitution Avenue NW, Washington, DC 20230; telephone: (202) 482-4243 and (202) 482-2483, respectively.

SUPPLEMENTARY INFORMATION:

Background

Commerce published the Preliminary Results of this administrative review of the antidumping duty (AD) order on welded stainless pressure pipe (WSPP) from India on December 12, 2018.¹ We invited interested parties to comment on the Preliminary Results; however, no interested party submitted comments. Commerce conducted this administrative review in accordance with sections 751(a)(1) and (2) of the Tariff Act of 1930, as amended (the Act).

¹ See Welded Stainless Pressure Pipe from India: Preliminary Results of Antidumping Duty Administrative Review; 2016-2017, 83 FR 63827 (December 12, 2018) (Preliminary Results) and accompanying memorandum, “Decision Memorandum for the Preliminary Results of Antidumping Duty Administrative Review: Welded Stainless Pressure Pipe from India: 2016-2017,” dated December 3, 2018 (PDM).

Commerce exercised its discretion to toll all deadlines affected by the partial federal government closure from December 22, 2018, through the resumption of operations on January 29, 2019.² If the new deadline falls on a non-business day, in accordance with Commerce's practice, the deadline will become the next business day. The revised deadline for the final results of this administrative review is now May 13, 2019.

² See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The merchandise covered by this order is circular welded austenitic stainless pressure pipe not greater than 14 inches in outside diameter. For purposes of this scope, references to size are in nominal inches and include all products within tolerances allowed by pipe specifications. This merchandise includes, but is not limited to, the American Society for Testing and Materials (ASTM) A-312 or ASTM A-778 specifications, or comparable domestic or foreign specifications. ASTM A-358 products are only included when they are produced to meet ASTM A-312 or ASTM A-778 specifications, or comparable domestic or foreign specifications.

The subject imports are normally classified in subheadings 7306.40.5005, 7306.40.5040, 7306.40.5062, 7306.40.5064, and 7306.40.5085 of the Harmonized Tariff Schedule of the United States (HTSUS). They may also enter under HTSUS subheadings 7306.40.1010, 7306.40.1015, 7306.40.5042, 7306.40.5044, 7306.40.5080, and 7306.40.5090. The HTSUS subheadings are provided for convenience and customs purposes only; the written description of the scope of this order is dispositive.³

³ For the full text of the scope of the order, see the PDM.

Changes Since the Preliminary Results

As no parties submitted comments on the Preliminary Results, we made no changes in the final results of this review.

Final Results of the Review

Commerce determines that the following weighted-average dumping margins exist for the May 10, 2016, through October 31, 2017 POR:

⁴ This rate is based on the rates for the respondents that were selected for individual review, excluding rates that are zero, de minimis or based entirely on facts available. See section 735(c)(5)(A) of the Act; see also memorandum, “Welded Stainless Pressure Pipe from India: Calculation of the All-Others Rate in the Preliminary Results of Antidumping Duty Administrative Review; 2016-2017,” dated December 3, 2018.

Exporter/producer | Estimated weighted- average dumping margin (percent)
Bhandari Foils & Tubes, Ltd | 7.19
Hindustan Inox, Ltd | 2.03
Apex Tubes Private Ltd | ⁴ 3.89
Apurvi Industries | 3.89
Arihant Tubes | 3.89
Divine Tubes Pvt. Ltd | 3.89
Heavy Metal & Tubes | 3.89
J.S.S. Steelitalia Ltd | 3.89
Linkwell Seamless Tubes Private Limited | 3.89
Maxim Tubes Company Pvt. Ltd | 3.89
MBM Tubes Pvt. Ltd | 3.89
Mukat Tanks & Vessel Ltd | 3.89
Neotiss Ltd | 3.89
Prakash Steelage Ltd | 3.89
Quality Stainless Pvt. Ltd | 3.89
Raajratna Metal Industries Ltd | 3.89
Ratnadeep Metal & Tubes Ltd | 3.89
Ratnamani Metals & Tubes Ltd | 3.89
Remi Edelstahl Tubulars | 3.89
Shubhlaxmi Metals & Tubes Private Limited | 3.89
SLS Tubes Pvt. Ltd | 3.89
Steamline Industries Ltd | 3.89

Assessment Rates

Pursuant to the final results of this review, Commerce determines, and U.S. Customs and Border Protection (CBP) shall assess, antidumping duties on all appropriate entries of subject merchandise in accordance with section 751(a)(2)(C) of the Act and 19 CFR 351.212(b).

For the mandatory respondents (i.e., Bhandari Foils & Tubes, Ltd. (Bhandari) and Hindustan Inox, Ltd. (Hindustan)), as the weighted-average dumping margins are not zero or de minimis (i.e., less than 0.5 percent), we calculated importer-specific ad valorem AD assessment rates based on the ratio of the total amount of dumping calculated for the importers' examined sales to the total entered value of those same sales in accordance with 19 CFR 351.212(b)(1).⁵

⁵ In these preliminary results, Commerce applied the assessment rate calculation method adopted in Antidumping Proceedings. See Calculation of the Weighted-Average Dumping Margin and Assessment Rate in Certain Antidumping Proceedings: Final Modification, 77 FR 8101 (February 14, 2012).

For the companies which were not selected for individual review, we will assign an assessment rate based on the weighted average of the cash deposit rates calculated for the companies selected for individual review (i.e., Bhandari and Hindustan).

In accordance with Commerce's “automatic assessment” practice, for entries of subject merchandise during the POR produced by each respondent for which they did not know that their merchandise was destined for the United States, we will instruct CBP to liquidate entries not reviewed at the all-others rate of 8.35 percent if there is no rate for the intermediate company(ies) involved in the transaction.⁶

⁶ See Welded Stainless Pressure Pipe From India: Antidumping Duty and Countervailing Duty Orders, 81 FR 81062 (November 17, 2016).

We intend to issue instructions to CBP 15 days after publication of these final results of this review in the Federal Register.

Cash Deposit Requirements

The following deposit requirements will be effective upon publication of this notice of final results of administrative review in the Federal Register for all shipments of WSPP from India entered, or withdrawn from warehouse, for consumption on or after the date of publication provided by section 751(a)(2) of the Act: (1) The cash deposit rate for each company listed above will be equal to the dumping margins established in the final results of this review; (2) for merchandise exported by producers or exporters not covered in this administrative review but covered in a prior segment of the proceeding, the cash deposit rate will continue to be the company-specific rate published for the most recently completed segment of this proceeding in which the producer or exporter participated; (3) if the exporter is not a firm covered in this review, a prior review, or the original less-than-fair-value investigation but the producer is, the cash deposit rate will be the rate established for the most recently completed segment of the proceeding for the producer of the merchandise; and (4) the cash deposit rate for all other producers or exporters will continue to be 8.35 percent, the all-others rate established in the antidumping investigation.⁷ These deposit requirements, when imposed, shall remain in effect until further notice.

⁷ Id.

Notification to Importers

This notice serves as a final reminder to importers of their responsibility under 19 CFR 351.402(f)(2) to file a certificate regarding the reimbursement of antidumping and/or countervailing duties prior to liquidation of the relevant entries during this review period. Failure to comply with this requirement could result in the Secretary's presumption that reimbursement of the antidumping and/or countervailing duties occurred and the subsequent assessment of double antidumping duties.

Administrative Protective Order

This notice also serves as a reminder to parties subject to administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

We are issuing and publishing these final results of administrative review in accordance with sections 751(a)(1) and 777(i) of the Act and 19 CFR 351.221(b)(5).

Dated: May 1, 2019.
Jeffrey I. Kessler,
Assistant Secretary for Enforcement and Compliance.

[FR Doc. 2019-09453 Filed 5-7-19; 8:45 am]

BILLING CODE 3510-DS-P